INTERNATIONAL TRADE COMMISSION

[Investigation No. 731-TA-282 (Second Review)]

Petroleum Wax Candles From Cina

Determination

On the basis of the record ¹ developed in the subject five-year review, the United States International Trade Commission (Commission) determines, pursuant to section 751(c) of the Tariff Act of 1930 (19 U.S.C. 1675(c)) (the Act), that revocation of the antidumping duty order on petroleum wax candles from China would be likely to lead to continuation or recurrence of material injury to an industry in the United States within a reasonably foreseeable time.

¹ The record is defined in sec. 207.2(f) of the Commission's Rules of Practice and Procedure (19 CFR 207.2(f)).

Background

The Commission instituted this review on August 2, 2004 (69 FR 46182) and determined on November 5, 2004 that it would conduct a full review (69 FR 68175, November 23, 2004). Notice of the scheduling of the Commission's review and of a public hearing to be held in connection therewith was given by posting copies of the notice in the Office of the Secretary, U.S. International Trade Commission, Washington, DC, and by publishing the notice in the Federal Register on January 21, 2005 (70 FR 3224). The hearing was held in Washington, DC, on May 25, 2005, and all persons who requested the opportunity were permitted to appear in person or by counsel.

The Commission transmitted its determination in this review to the Secretary of Commerce on July 28, 2005. The views of the Commission are contained in USITC Publication 3790 (July 2005), entitled Petroleum Wax Candles from China: Investigation No. 731-TA-282 (Second Review).

Issued: July 28, 2005.
By order of the Commission.
Marilyn R. Abbott,
Secretary to the Commission.

[FR Doc. 05-15263 Filed 8-2-05; 8:45 am]

BILLING CODE 7020-02-P